DEPARTMENT OF HEALTH AND HUMAN SERVICES

Program Support Center; Statement of Organization, Functions and Delegations of Authority

Part P (Program Support Center) of the Statement of Organization, Functions and Delegations of Authority for the Department of Health and Human Services (HHS) (60 FR 51480, October 2, 1995, and as last amended at 66 FR 58740-41, dated November 23, 2001) is being amended to reflect the following changes in Chapter PG within Part P, Program Support Center, HHS.

The changes to the above chapter establish Division-level organizations for the Federal Occupational Health Service.

Program Support Center

Under Part P, Section P-20, Functions, after the title and statement for Chapter PG, Federal Occupational Health Service (PG) add the following:

Office of the Director (PGA)

Provides executive direction, policy, guidance and supervision, and coordinates long- and short-range planning for the Federal Occupational Health Service (FOHS). In addition the office provides management expertise to the FOHS divisions in the areas of: fiscal controls, management information, program support services, operations support, and is responsible for FOHS' strategic planning and performance measurement. Operations consist of: (1) Evaluation and consultation of Federal managers concerning the management and delivery of the full scope of agency occupational health programs; (2) nationwide assistance in planning, implementing and monitoring health programs for Federal agencies on a reimbursable basis including improved environmental, educational, promotional, clinical, information management, and managerial services; (3) health evaluations, science and engineering assessments training, and demonstration projects; (4) developing standards and criteria; (5) promoting workforce productivity and reducing absenteeism, lost time and related Federal liability; (6) development and operation of shared services for contracting, cost comparison, analysis and program formulation; (7) maintaining relationships with health officials in other Federal agencies and private organizations; and (8) participating in Federal occupational health related policy and program development and implementation.

Division of Clinical Services (PGB)

Designs and delivers comprehensive occupational health clinical services (including wellness/fitness) throughout the Nation to assist client agencies to improve and maintain the physical health of their workforce and meet or exceed regulatory compliance standards regarding occupational health. Services are aimed at promoting healthy work and lifestyle habits and detecting and intervening in those conditions which are deleterious to wellness and productivity. Specifically: (1) Adopts standards of practice, protocols, and procedures by which clinical services are provided that meet or exceed the highest standards established by professional bodies representing appropriate clinical disciplines; (2) maintains a formal, written system of ancillary program policies to ensure that clinical services are delivered to all clients in accordance with interagency agreements, regardless of location or actual provider of service; (3) conducts periodic reviews and program audits, and uses total quality management/continuous quality improvement techniques to assure that the highest quality clinical services are delivered in a compliant, effective, efficient, and consistent manner; (4) conducts applied research, training, and demonstration projects to address clinical needs, including specific programs requested by clients; (5) designs and delivers customized programs and services including facility and workplace designs for clients with special needs; (6) develops methods for evaluation of clinical services and conducts such evaluations on request; (7) maintains clinical services information and records; and (8) assures that all clinical consultation and services have been fully reimbursed by customers.

Division of Employee Assistance Program Services (PGC)

Designs and delivers comprehensive employee assistance program (EAP) services throughout the Nation to assist clients with the complete spectrum of personal problems and workplace issues. Services are aimed at promoting healthy work and lifestyle habits and detecting and intervening in those conditions that are deleterious to wellness and productivity. Specifically: (1) Adopts standards of practice, protocols, and procedures by which EAP services are provided that meet or exceed the highest standards established by professional bodies representing appropriate EAP disciplines; (2) maintains a formal, written system of ancillary program policies to ensure that EAP services are delivered to all clients in accordance with interagency agreements, regardless of location or actual provider of service; (3) conducts periodic reviews and program audits, and uses total quality management/continuous quality improvement techniques to assure that the highest quality EAP services are delivered in a compliant, effective, efficient, and consistent manner; (4) conducts applied research, training, and demonstration projects to address EAP needs, including specific programs requested by clients; (5) designs and specialized EAP agency standards, programs, and facility and workplace designs for clients with special needs; (6) develops and implements methods for evaluation of EAP services; (7) maintains EAP services information and records; and (8) assures that all EAP services have been fully reimbursed by customers.

Division of Environmental Health Services (PGE)

Designs and delivers comprehensive occupational health (EH) services throughout the Nation to assist clients with the complete spectrum of EH concerns. Services are aimed at promoting healthy work and lifestyle habits and detecting and intervening in those conditions which are deleterious to wellness and productivity. Specifically: (1) Adopts standards of practice, protocols, and procedures by which EH services are provided that meet or exceed the highest standards established by professional bodies representing appropriate EH disciplines; (2) maintains a formal, written system of ancillary program policies to ensure that EH services are delivered to all clients in accordance with interagency agreements, regardless of location or actual provider of service; (3) conducts periodic reviews and program audits, and uses total quality management/continuous quality improvement techniques to assure that the highest quality EH services are delivered in a compliant, effective, efficient, and consistent manner; (4) conducts applied research, training, and demonstration projects to address EH needs, including specific programs requested by clients; (5) designs and specialized EH agency standards, programs, and facility and workplace designs for clients with special needs; (6) develops methods for evaluation of EH services and conducts such evaluations on request; (7) maintains the EH services information and records; and (8) assures that all clinical consultation and services have been fully reimbursed by customers.

Dated: March 19, 2002.
Curtis L. Coy,
Director, Program Support Center.

[FR Doc. 02-7182 Filed 3-25-02; 8:45 am]

BILLING CODE 4168-17-M